Title 3—

The President

Proclamation 9673 of November 8, 2017

World Freedom Day, 2017

By the President of the United States of America

A Proclamation

For 28 years, the Berlin Wall divided families, friends, and communities, barricading oppressed Germans living on the Eastern side from seeking the freedom they deserved in the West. This World Freedom Day, 28 years after the fall of the Berlin Wall, we celebrate the day on November 9, 1989, when people of East and West Germany tore down the Berlin Wall and freedom triumphed over Communism. We laud the courage of all people who insist on a better future for themselves, their families, and their country, as we reflect on the state of freedom in our world today and those who have made the ultimate sacrifice defending it.

The fall of the Berlin Wall spurred the reunification of Germany and the spread of democratic values across Central and Eastern Europe. Through democratic elections, and a strong commitment to human rights, these determined men and women ensured that their fellow and future citizens could live their lives in freedom. Today, we are reminded that the primary function of government is precisely this, to secure precious individual liberties.

While we live in a time of unprecedented freedom, terrorism and extremism around the world continue to threaten us. The ultimate triumph of freedom, peace, and security over repressive totalitarianism depends on our ability to work side-by-side with our friends and allies. When nations work together, we have and we will secure and advance freedom and stability throughout our world.

On World Freedom Day, we recommit to the advancement of freedom over the forces of repression and radicalism. We continue to make clear that oppressive regimes should trust their people and grant their citizens the liberty they deserve. The world will be better for it.

NOW, THEREFORE, I, DONALD J. TRUMP, President of the United States of America, by virtue of the authority vested in me by the Constitution and the laws of the United States, do hereby proclaim November 9, 2017, as World Freedom Day. I call upon the people of the United States to observe this day with appropriate ceremonies and activities, reaffirming our dedication to freedom and democracy.

IN WITNESS WHEREOF, I have hereunto set my hand this eighth day of November, in the year of our Lord two thousand seventeen, and of the Independence of the United States of America the two hundred and forty-second.

[FR Doc. 2017-24807

Filed 11-13-17; 11:15 am]

Billing code 3295-F8-P